DEPARTMENT OF THE INTERIOR

Fish and Wildlife Service

[FWS-R6-R-2014-N289; FXRS1261060-145-FF06R06000]

Cokeville Meadows National Wildlife Refuge, Cokeville, Wyoming; Final Comprehensive Conservation Plan and Finding of No Significant Impact for Environmental Assessment

AGENCY: Fish and Wildlife Service, Interior.

ACTION: Notice of availability.

SUMMARY: We, the U.S. Fish and Wildlife Service (Service), announce the availability of a final comprehensive conservation plan (CCP) and finding of no significant impact (FONSI) for the environmental assessment (EA) we prepared on the CCP for Cokeville Meadows National Wildlife Refuge. The final CCP describes how we intend to manage the refuge for the next 15 years.

ADDRESSES: You will find the final CCP, the EA, and the FONSI on our planning Web site at http://www.fws.gov/mountain-prairie/planning/ccp/wy/ckv/ckv.html. A limited number of hard copies are available. You may request one by any of the following methods:

Email: bernardo_garza@fws.gov. Include “Cokeville Meadows NWR” in the subject line of the message.

U.S. Mail: Bernardo Garza, Planning Team Leader, Suite 300, 134 Union Boulevard, Lakewood, CO 80228.

FOR FURTHER INFORMATION CONTACT: Bernardo Garza, (303) 236-4377 (phone); (303) 236-4792 (fax); or bernardo_garza@fws.gov (email).

SUPPLEMENTARY INFORMATION:

Introduction

With this notice, we continue the CCP process for Cokeville Meadows National Wildlife Refuge, which we began by publishing a notice of intent in the Federal Register (74 FR 57328) on November 5, 2009. For more about the initial process and the history of this refuge, see that notice. We released the draft CCP and EA to the public, announcing and requesting comments in a notice of availability (78 FR 58340) on September 23, 2013. The 30-day comment period ended on October 21, 2013. We then extended the comment period to November 4, 2013. A summary of public comments and the agency responses is included in the final CCP.

Background

The National Wildlife Refuge System Administration Act of 1966, as amended by the National Wildlife Refuge System Improvement Act of 1997 (16 U.S.C. 668dd-668ee) (Administration Act), requires us to develop a CCP for each national wildlife refuge. The purpose in developing a CCP is to provide refuge managers with a 15-year strategy for achieving refuge purposes and contributing toward the mission of the National Wildlife Refuge System (NWRS), consistent with sound principles of fish and wildlife management, conservation, legal mandates, and Service policies. In addition to outlining broad management direction on conserving wildlife and their habitats, CCPs identify wildlife-dependent recreational opportunities available to the public, including opportunities for hunting, fishing, wildlife observation and photography, and environmental education and interpretation. We will review and update the CCP at least every 15 years in accordance with the Administration Act.

Each unit of the NWRS was established for specific purposes. We use these purposes as the foundation for developing and prioritizing the management goals and objectives for each refuge within the NWRS mission, and to determine how the public can use each refuge. The planning process is a way for us and the public to evaluate management goals and objectives that will ensure the best possible approach to wildlife, plant, and habitat conservation, while providing for wildlife-dependent recreation opportunities that are compatible with each refuge's establishing purposes and the mission of the NWRS.

Additional Information About the CCP, EA, and FONSI

The final CCP includes detailed information about the planning process, refuge, management issues, and management alternative selected. The EA includes discussion of four alternative refuge management options. The Service's selected alternative is reflected in the final CCP, and also in the FONSI.

The selected alternative for the refuge focuses on managing lands within a greater landscape footprint by using partnerships to enhance habitats both on and off the refuge. Land and easement acquisition will continue to round out and complete the acquisition boundary. Wet meadow and upland habitats will be enhanced and managed to increase wildlife productivity and diversity. The use of agricultural practices will be specifically geared to enhance refuge habitats for wildlife and to help decrease wildlife depredation on private property adjacent to the refuge.

Staff will increase focus on developing visitor resources, access, and opportunities for wildlife-dependent uses (hunting, fishing, wildlife observation, photography, environmental education, and interpretation) to encourage a greater understanding and appreciation of the Bear River watershed; wet meadow, riparian and stream habitats; and wildlife. A detailed description of objectives and actions included in this selected alternative is found in chapter 4 of the final CCP.

Dated: June 3, 2014.
Noreen Walsh,
Regional Director, Mountain-Prairie Region, U.S. Fish and Wildlife Service.

[FR Doc. 2014-18670 Filed 8-13-14; 8:45 am]

BILLING CODE 4310-55-P